DEPARTMENT OF THE INTERIOR

National Park Service

Notice of Intent to Repatriate a Cultural Item: San Diego Museum of Man, San Diego, CA

AGENCY: National Park Service, Interior.

ACTION: Notice.

Notice is here given in accordance with the Native American Graves Protection and Repatriation Act (NAGPRA), 25 U.S.C. 3005, of the intent to repatriate a cultural item in the possession of the San Diego Museum of Man, San Diego, CA, that meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

In 1986, one Wihosa mask was acquired from Sylvester Matthias, a Pima, from Komatke, AZ, who inherited it as the last person in the (hereditary) line. The cultural item is used in the Navichu ceremony.

Recorded information from museum records about the object of cultural patrimony states that the item was located on traditional Pima (Akimel O'odham) land. A tribal representative for the Gila River Indian Community of the Gila River Indian Reservation, Arizona, communicated to the San Diego Museum of Man that the item is an object of cultural patrimony and has ongoing historical, traditional, or cultural importance central to the Gila River Indian Community of the Gila River Indian Reservation itself, rather than being property owned by an individual. The Wihosa mask is still used in the Navichu ceremony and is not the property of a single individual. This object of cultural patrimony was previously described in a Notice of Intent to Repatriate in the Federal Register (73 FR 59653, October 9, 2008), and had been culturally affiliated to the Tohono O'odham Nation of Arizona. Since publication of the October 9, 2008 notice, the Gila River Indian Community of the Gila River Indian Reservation, Arizona, has claimed the Wihosa mask as culturally affiliated to them.

Officials of the San Diego Museum of Man have determined that, pursuant to 25 U.S.C. 3001 (3)(D), the one cultural item described above has ongoing historical, traditional, or cultural importance central to the Native American group or culture itself, rather than property owned by an individual. Officials of the San Diego Museum of Man also have determined that, pursuant to 25 U.S.C. 3001 (2), there is a relationship of shared group identity that can be reasonably traced between the object of cultural patrimony and the Gila River Indian Community of the Gila River Indian Reservation, Arizona.

Representatives of any other Indian tribe that believes itself to be culturally affiliated with the object of cultural patrimony should contact Philip Hoog, Archaeology and NAGPRA Coordinator, San Diego Museum of Man, 1350 El Prado, Balboa Park, San Diego, CA 92101, telephone (619) 239-2001, before April 10, 2009. Repatriation of the object of cultural patrimony to the Gila River Indian Community of the Gila River Indian Reservation, Arizona may proceed after that date if no additional claimants come forward.

The San Diego Museum of Man is responsible for notifying the Gila River Indian Community of the Gila River Indian Reservation, Arizona and Tohono O'odham Nation of Arizona that this notice has been published.

Dated: February 12, 2009
Sangita Chari,
Acting Manager, National NAGPRA Program.

[FR Doc. E9-5315 Filed 3-10-09; 8:45 am]

BILLING CODE 4312-50-S